DEPARTMENT OF HEALTH AND HUMAN SERVICES

Food and Drug Administration

[FDA No. 225-07-3002]

Memorandum of Understanding Between the Walter Reed Army Institute for Research, the Food and Drug Administration, and the F. Edward Herbert School of Medicine of the Uniformed Services University of the Health Sciences

AGENCY: Food and Drug Administration, HHS.

ACTION: Notice.

SUMMARY: The Food and Drug Administration (FDA) is providing notice of a memorandum of understanding (MOU) between the Walter Reed Army Institute of Research, FDA, and the F. Edward Herbert School of Medicine of the Uniformed Services University of the Health Sciences. This MOU identifies the terms of collaboration between the three Federal entities in the coordination of the established Clinical Pharmacology Fellowship Training Program. Specifically, this collaboration provides for active duty Army, Air Force, Navy, and Public Health Service Medical Corps officers in the fellowship program to arrange a 2 to 4 month internship within FDA's Center for Drug Evaluation and Research (CDER) through CDER's Office of Clinical Pharmacology.

DATES: The agreement became effective January 8, 2008.

FOR FURTHER INFORMATION CONTACT: Shiew Mei Huang, Center for Drug Evaluation and Research, Food and Drug Administration, 10903 New Hampshire Ave., Bldg. 21, Silver Spring, MD 20993, 301-796-1541.

SUPPLEMENTARY INFORMATION: In accordance with 21 CFR 20.108(c), which states that all written agreements and MOUs between FDA and others shall be published in the Federal Register, the agency is publishing notice of this MOU.

Dated: February 8, 2008.
Jeffrey Shuren,
Assistant Commissioner for Policy.

BILLING CODE 4160-01-S

[FR Doc. 08-685 Filed 2-15-08; 8:45 am]

BILLING CODE 4160-01-C